DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 77 FR 21565-21568 dated April 10, 2012).

This notice reflects organizational changes to the Health Resources and Services Administration. This notice updates the functional statement for the Healthcare Systems Bureau (RR). Specifically, this notice: (1) Renames the Division of Health Facilities to the Division of Poison Control and Healthcare Facilities (RR9); (2) transfers the function of the Poison Control Program from the Office of the Associate Administrator (RR), to the Division of Poison Control and Healthcare Facilities (RR9); (3) updates the functional statement for the Office of the Associate Administrator (RR); and (4) updates the functional statement for the Division of Poison Control and Healthcare Facilities (RR9).

Chapter RR—Healthcare Systems Bureau

Section RR-10, Organization

Delete in its entirety and replace with the following:

The Healthcare Systems Bureau (RR) is headed by the Associate Administrator, who reports directly to the Administrator, Health Resources and Services Administration. The Healthcare Systems Bureau includes the following components:

(1) Office of the Associate Administrator (RR);

(2) Division of Transplantation (RR1);

(3) Division of Vaccine Injury Compensation (RR4);

(4) Office of Pharmacy Affairs (RR7); and

(5) Division of Poison Control and Healthcare Facilities (RR9).

Section RR-20, Functions

(1) Delete the functional statement for the Office of the Associate Administrator (RR) and replace in its entirety; and (2) delete the functional statement for the Division of Health Facilities and replace in its entirety.

Office of the Associate Administrator (RR)

The Healthcare Systems Bureau leads the Agency in providing health care programs to eligible organizations around the country. Specifically, (1) Administers the Organ Transplantation Program to include the Organ Procurement and Transplantation Network to facilitate the allocation of donor organs to patients waiting for an organ transplant and the Scientific Registry of Transplant Recipients that provides analytic support to the Organ Procurement and Transplantation Network in the development and assessment of organ allocation and other Organ Procurement and Transplantation Network policies; (2) administers the C.W. Bill Young Cell Transplantation Program to increase the number of unrelated blood stem cell transplants and improve the outcomes of blood stem cell transplants; (3) administers the National Cord Blood Inventory to increase the number of high quality cord blood units available for transplantation; (4) develops and maintains a national program of grants and contracts to organ procurement organizations and other entities to increase the number of organs made available for transplantation; (5) manages the national program for compliance with the Hill-Burton uncompensated care requirement and other assurances; (6) directs and administers a congressionally-directed grant program for the construction/renovation/equipping of health care and other facilities; (7) directs and administers the National Vaccine Injury Compensation Program; (8) manages and promotes the 340B Drug Pricing Program; (9) directs and administers the Poison Center Support, Enhancement, and Awareness Act; and (10) implements and administers the Countermeasures Injury Compensation Program under PREP Act authorities.

The Countermeasures Injury Compensation Program administers the Federal compensation program established by the Public Readiness and Emergency Preparedness Act (“PREP Act”) enacted as Division C of the Defense Appropriations Act for fiscal year 2006, Public Law 109-148, which added new authorities under the Public Health Service (PHS) Act to alleviate concerns about liability related to the manufacture, testing, development, distribution, administration, and use of countermeasures against chemical, biological, radiological and nuclear agents of terrorism, epidemics, and pandemics. The program discharges all PREP Act authorities regarding compensation including: (1) Developing and disseminating requests for benefits information to inform individuals that the Countermeasures Injury Compensation Program exists so that people requesting benefits do not miss the 1-year filing deadline; (2) accepting letters of intent to file requests for benefits so that individuals preserve their rights to file by the 1-year deadline; (3) evaluating requests for benefits for compensation filed under the Countermeasures Injury Compensation Program through medical review and assessment of compensability for all complete claims; (4) processing requests for benefits made under the Countermeasures Injury Compensation Program; (5) promulgating regulations to create and revise the Countermeasures Injury Compensation Program Vaccine Injury Tables; (6) developing and maintaining all automated information systems necessary for Program implementation; and (7) collecting, analyzing and disseminating Program information.

Division of Poison Control and Healthcare Facilities (RR9)

The Division of Poison Control and Healthcare Facilities administers the Poison Control Program, substantiates health facilities' compliance with the Hill-Burton uncompensated services assurance, and administers construction grants under section 1610(b) of the Public Health Service Act, under the Health Care and Other Facilities program, and under the Patient Protection and Affordable Care Act, Public Law 111-148. Specifically, the Division: (1) Administers the activities authorized by the Poison Center Support, Enhancement and Awareness Act of 2008, which includes: (a) Maintaining the national toll-free Poison Help hotline (800-222-1222), (b) implementing and expanding a national media campaign to educate the public and health care providers about poisoning prevention, and (c) awarding grants to poison control centers; (2) administers the process for awarding new construction and equipment grants, under section 1610(b), the Health Care and Other Facilities, and the Patient Protection and Affordable Care Act programs, including ensuring the delivery of comprehensive architectural and engineering services and ensuring compliance with historic preservation and other laws and regulations related to construction projects, maintaining a computerized database of key project information, and providing technical assistance in application preparation to potential grantees under Division grant programs; (3) monitors grant projects during construction to assure compliance with the terms of the award, including reviewing requests for changes in scope to grant projects and obtaining information needed to close out completed grant projects; (4) establishes, develops, monitors, and enforces the implementation of Hill-Burton regulations, policies, procedures, and guidelines for use by staff and health care facilities; (5) maintains a system for receipt, analysis and disposition of audit appeals by Hill-Burton obligated facilities and for receiving and responding to patient complaints; (6) manages the recovery or waiver of recovery of Federal grant funds process for Titles VI and XVI; (7) manages the national Hill-Burton Hotline to ensure that consumers receive timely and accurate information on the program; and (8) provides architectural and engineering services to other Agencies such as the Administration for Children and Families and the Food and Drug Administration.

Section RR-30, Delegations of Authority

All delegations of authority and re-delegations of authority made to HRSA officials that were in effect immediately prior to this reorganization, and that are consistent with this reorganization, shall continue in effect pending further re-delegation.

This reorganization is effective upon date of signature.

Dated: June 14, 2012.
Mary K. Wakefield,
Administrator.

[FR Doc. 2012-15474 Filed 6-25-12; 8:45 am]

BILLING CODE 4165-15-P